DEPARTMENT OF HOMELAND SECURITY

Federal Emergency Management Agency

44 CFR Part 64

[Docket ID FEMA-2016-0002; Internal Agency Docket No. FEMA-8453]

Suspension of Community Eligibility

AGENCY: Federal Emergency Management Agency, DHS.

ACTION: Final rule.

SUMMARY: This rule identifies communities where the sale of flood insurance has been authorized under the National Flood Insurance Program (NFIP) that are scheduled for suspension on the effective dates listed within this rule because of noncompliance with the floodplain management requirements of the program. If the Federal Emergency Management Agency (FEMA) receives documentation that the community has adopted the required floodplain management measures prior to the effective suspension date given in this rule, the suspension will not occur and a notice of this will be provided by publication in the Federal Register on a subsequent date. Also, information identifying the current participation status of a community can be obtained from FEMA's Community Status Book (CSB). The CSB is available at http://www.fema.gov/fema/csb.shtm.

DATES: The effective date of each community's scheduled suspension is the third date (“Susp.”) listed in the third column of the following tables.

FOR FURTHER INFORMATION CONTACT: If you want to determine whether a particular community was suspended on the suspension date or for further information, contact Patricia Suber, Federal Insurance and Mitigation Administration, Federal Emergency Management Agency, 400 C Street SW., Washington, DC 20472, (202) 646-4149.

SUPPLEMENTARY INFORMATION: The NFIP enables property owners to purchase Federal flood insurance that is not otherwise generally available from private insurers. In return, communities agree to adopt and administer local floodplain management measures aimed at protecting lives and new construction from future flooding. Section 1315 of the National Flood Insurance Act of 1968, as amended, 42 U.S.C. 4022, prohibits the sale of NFIP flood insurance unless an appropriate public body adopts adequate floodplain management measures with effective enforcement measures. The communities listed in this document no longer meet that statutory requirement for compliance with program regulations, 44 CFR part 59. Accordingly, the communities will be suspended on the effective date in the third column. As of that date, flood insurance will no longer be available in the community. We recognize that some of these communities may adopt and submit the required documentation of legally enforceable floodplain management measures after this rule is published but prior to the actual suspension date. These communities will not be suspended and will continue to be eligible for the sale of NFIP flood insurance. A notice withdrawing the suspension of such communities will be published in the Federal Register.

In addition, FEMA publishes a Flood Insurance Rate Map (FIRM) that identifies the Special Flood Hazard Areas (SFHAs) in these communities. The date of the FIRM, if one has been published, is indicated in the fourth column of the table. No direct Federal financial assistance (except assistance pursuant to the Robert T. Stafford Disaster Relief and Emergency Assistance Act not in connection with a flood) may be provided for construction or acquisition of buildings in identified SFHAs for communities not participating in the NFIP and identified for more than a year on FEMA's initial FIRM for the community as having flood-prone areas (section 202(a) of the Flood Disaster Protection Act of 1973, 42 U.S.C. 4106(a), as amended). This prohibition against certain types of Federal assistance becomes effective for the communities listed on the date shown in the last column. The Administrator finds that notice and public comment procedures under 5 U.S.C. 553(b), are impracticable and unnecessary because communities listed in this final rule have been adequately notified.

Each community receives 6-month, 90-day, and 30-day notification letters addressed to the Chief Executive Officer stating that the community will be suspended unless the required floodplain management measures are met prior to the effective suspension date. Since these notifications were made, this final rule may take effect within less than 30 days. National Environmental Policy Act. FEMA has determined that the community suspension(s) included in this rule is a non-discretionary action and therefore the National Environmental Policy Act of 1969 (42 U.S.C. 4321 et seq.) does not apply.

Regulatory Flexibility Act. The Administrator has determined that this rule is exempt from the requirements of the Regulatory Flexibility Act because the National Flood Insurance Act of 1968, as amended, Section 1315, 42 U.S.C. 4022, prohibits flood insurance coverage unless an appropriate public body adopts adequate floodplain management measures with effective enforcement measures. The communities listed no longer comply with the statutory requirements, and after the effective date, flood insurance will no longer be available in the communities unless remedial action takes place.

Regulatory Classification. This final rule is not a significant regulatory action under the criteria of section 3(f) of Executive Order 12866 of September 30, 1993, Regulatory Planning and Review, 58 FR 51735.

Executive Order 13132, Federalism. This rule involves no policies that have federalism implications under Executive Order 13132.

Executive Order 12988, Civil Justice Reform. This rule meets the applicable standards of Executive Order 12988.

Paperwork Reduction Act. This rule does not involve any collection of information for purposes of the Paperwork Reduction Act, 44 U.S.C. 3501 et seq.

List of Subjects in 44 CFR Part 64

Flood insurance, Floodplains.

Accordingly, 44 CFR part 64 is amended as follows:

PART 64—[AMENDED]

1. The authority citation for Part 64 continues to read as follows:

Authority: 42 U.S.C. 4001 et seq.; Reorganization Plan No. 3 of 1978, 3 CFR, 1978 Comp.; p. 329; E.O. 12127, 44 FR 19367, 3 CFR, 1979 Comp.; p. 376.

§ 64.6 [Amended]

2. The tables published under the authority of § 64.6 are amended as follows:

State and location | Community No. | Effective date authorization/cancellation of sale of flood insurance in community | Current effective map date | Date certain federal assistance no longer available in SFHAs
Region I
Massachusetts:
Marshfield, Town of, Plymouth County | 250273 | January 14, 1972, Emerg; October 14, 1977, Reg; November 4, 2016, Susp | November 4, 2016 | November 4, 2016
Plymouth, Town of, Plymouth County | 250278 | February 5, 1974, Emerg; July 17, 1986, Reg; November 4, 2016, Susp | ......*do | Do.
Region II
New Jersey:
Franklin, Township of, Somerset County | 340434 | April 6, 1973, Emerg; May 15, 1980, Reg; November 4, 2016, Susp | ......*do | Do.
Hillsborough, Township of, Somerset County | 340436 | June 18, 1974, Emerg; March 2, 1981, Reg; November 4, 2016, Susp | ......*do | Do.
Manville, Borough of, Somerset County | 340437 | December 15, 1972, Emerg; February 15, 1978, Reg; November 4, 2016, Susp | ......*do | Do.
Millstone, Borough of, Somerset County | 340438 | October 29, 1973, Emerg; April 3, 1978, Reg; November 4, 2016, Susp | ......*do | Do.
Montgomery, Township of, Somerset County | 340439 | August 20, 1974, Emerg; April 1, 1981, Reg; November 4, 2016, Susp | ......*do | Do.
Rocky Hill, Borough of, Somerset County | 340443 | July 15, 1975, Emerg; December 16, 1980, Reg; November 4, 2016, Susp | ......*do | Do.
New York:
Baldwinsville, Village of, Onondaga County | 360569 | August 12, 1974, Emerg; August 16, 1982, Reg; November 4, 2016, Susp | ......*do | Do.
Camillus, Town of, Onondaga County | 360570 | July 23, 1975, Emerg; June 15, 1981, Reg; November 4, 2016, Susp | ......*do | Do.
Camillus, Village of, Onondaga County | 360571 | July 17, 1974, Emerg; August 3, 1981, Reg; November 4, 2016, Susp | ......*do | Do.
Cicero, Town of, Onondaga County | 360572 | May 23, 1974, Emerg; April 4, 1983, Reg; November 4, 2016, Susp | ......*do | Do.
Clay, Town of, Onondaga County | 360573 | May 15, 1973, Emerg; April 1, 1980, Reg; November 4, 2016, Susp | ......*do | Do.
DeWitt, Town of, Onondaga County | 360973 | November 8, 1973, Emerg; March 1, 1979, Reg; November 4, 2016, Susp | ......*do | Do.
East Syracuse, Village of, Onondaga County | 360574 | July 23, 1975, Emerg; August 3, 1981, Reg; November 4, 2016, Susp | ......*do | Do.
Elbridge, Town of, Onondaga County | 360575 | April 8, 1974, Emerg; August 16, 1982, Reg; November 4, 2016, Susp | ......*do | Do.
Elbridge, Village of, Onondaga County | 360576 | February 18, 1975, Emerg; August 16, 1982, Reg; November 4, 2016, Susp | ......*do | Do.
Fabius, Town of, Onondaga County | 360577 | November 12, 1974, Emerg; April 30, 1986, Reg; November 4, 2016, Susp | ......*do | Do.
Fayetteville, Village of, Onondaga County | 360578 | August 22, 1974, Emerg; August 2, 1982, Reg; November 4, 2016, Susp | ......*do | Do.
Geddes, Town of, Onondaga County | 360579 | May 19, 1975, Emerg; February 17, 1982, Reg; November 4, 2016, Susp | ......*do | Do.
Jordan, Village of, Onondaga County | 360580 | December 3, 1974, Emerg; August 16, 1982, Reg; November 4, 2016, Susp | ......*do | Do.
LaFayette, Town of, Onondaga County | 360581 | September 13, 1974, Emerg; April 3, 1985, Reg; November 4, 2016, Susp | ......*do | Do.
Liverpool, Village of, Onondaga County | 360582 | December 26, 1974, Emerg; February 4, 1981, Reg; November 4, 2016, Susp | ......*do | Do.
Lysander, Town of, Onondaga County | 360583 | October 15, 1974, Emerg; January 6, 1982, Reg; November 4, 2016, Susp | ......*do | Do.
Manlius, Town of, Onondaga County | 360584 | November 8, 1973, Emerg; December 15, 1982, Reg; November 4, 2016, Susp | ......*do | Do.
Manlius, Village of, Onondaga County | 360977 | January 23, 1974, Emerg; September 29, 1978, Reg; November 4, 2016, Susp | ......*do | Do.
Marcellus, Town of, Onondaga County | 360585 | March 19, 1975, Emerg; August 16, 1982, Reg; November 4, 2016, Susp | ......*do | Do.
Marcellus, Village of, Onondaga County | 360586 | July 25, 1974, Emerg; June 1, 1982, Reg; November 4, 2016, Susp | ......*do | Do.
Minoa, Village of, Onondaga County | 361017 | April 18, 1975, Emerg; September 2, 1982, Reg; November 4, 2016, Susp | ......*do | Do.
North Syracuse, Village of, Onondaga County | 360587 | September 8, 1975, Emerg; November 20, 1985, Reg; November 4, 2016, Susp | ......*do | Do.
Onondaga, Town of, Onondaga County | 360588 | July 25, 1974, Emerg; January 18, 1984, Reg; November 4, 2016, Susp | ......*do | Do.
Otisco, Town of, Onondaga County | 360589 | June 1, 1976, Emerg; June 3, 1986, Reg; November 4, 2016, Susp | ......*do | Do.
Pompey, Town of, Onondaga County | 360590 | April 20, 1973, Emerg; January 3, 1979, Reg; November 4, 2016, Susp | ......*do | Do.
Salina, Town of, Onondaga County | 360591 | July 30, 1974, Emerg; August 16, 1982, Reg; November 4, 2016, Susp | ......*do | Do.
Skaneateles, Town of, Onondaga County | 360592 | September 19, 1974, Emerg; June 1, 1982, Reg; November 4, 2016, Susp | ......*do | Do.
Skaneateles, Village of, Onondaga County | 360593 | August 7, 1974, Emerg; February 17, 1982, Reg; November 4, 2016, Susp | ......*do | Do.
Solvay, Village of, Onondaga County | 361564 | January 16, 1975, Emerg; January 31, 1983, Reg; November 4, 2016, Susp | ......*do | Do.
Spafford, Town of, Onondaga County | 360594 | August 19, 1974, Emerg; April 30, 1986, Reg; November 4, 2016, Susp | ......*do | Do.
Syracuse, City of, Onondaga County | 360595 | August 2, 1974, Emerg; May 3, 1982, Reg; November 4, 2016, Susp | ......*do | Do.
Tully, Town of, Onondaga County | 361296 | November 3, 1975, Emerg; April 30, 1986, Reg; November 4, 2016, Susp | ......*do | Do.
Tully, Village of, Onondaga County | 361552 | June 27, 1975, Emerg; January 19, 1983, Reg; November 4, 2016, Susp | ......*do | Do.
Van Buren, Town of, Onondaga County | 360596 | March 16, 1973, Emerg; July 17, 1978, Reg; November 4, 2016, Susp | ......*do | Do.
Region V
Minnesota:
Bloomington, City of, Hennepin County | 275230 | March 12, 1971, Emerg; September 8, 1972, Reg; November 4, 2016, Susp | ......*do | Do.
Brooklyn Center, City of, Hennepin County | 270151 | July 29, 1974, Emerg; February 17, 1982, Reg; November 4, 2016, Susp | ......*do | Do.
Brooklyn Park, City of, Hennepin County | 270152 | February 5, 1974, Emerg; May 17, 1982, Reg; November 4, 2016, Susp | ......*do | Do.
Champlin, City of, Hennepin County | 270153 | March 30, 1973, Emerg; July 18, 1977, Reg; November 4, 2016, Susp | ......*do | Do.
Corcoran, City of, Hennepin County | 270155 | September 8, 1975, Emerg; January 16, 1981, Reg; November 4, 2016, Susp | ......*do | Do.
Crystal, City of, Hennepin County | 270156 | May 13, 1974, Emerg; June 1, 1978, Reg; November 4, 2016, Susp | ......*do | Do.
Dayton, City of, Hennepin and Wright Counties | 270157 | September 25, 1973, Emerg; February 1, 1978, Reg; November 4, 2016, Susp | ......*do | Do.
Deephaven, City of, Hennepin County | 270158 | September 4, 1974, Emerg; December 26, 1978, Reg; November 4, 2016, Susp | ......*do | Do.
Eden Prairie, City of, Hennepin County | 270159 | May 16, 1975, Emerg; September 27, 1985, Reg; November 4, 2016, Susp | ......*do | Do.
Edina, City of, Hennepin County | 270160 | July 27, 1973, Emerg; May 1, 1980, Reg; November 4, 2016, Susp | ......*do | Do.
Excelsior, City of, Hennepin County | 270161 | May 20, 1974, Emerg; March 20, 1981, Reg; November 4, 2016, Susp | ......*do | Do.
Golden Valley, City of, Hennepin County | 270162 | April 23, 1974, Emerg; February 4, 1981, Reg; November 4, 2016, Susp | ......*do | Do.
Greenfield, City of, Hennepin County | 270673 | December 26, 1974, Emerg; April 15, 1981, Reg; November 4, 2016, Susp | ......*do | Do.
Greenwood, City of, Hennepin County | 270164 | July 25, 1975, Emerg; December 26, 1978, Reg; November 4, 2016, Susp | ......*do | Do.
Hanover, City of, Hennepin and Wright Counties | 270540 | October 25, 1974, Emerg; May 5, 1981, Reg; November 4, 2016, Susp | ......*do | Do.
Hopkins, City of, Hennepin County | 270166 | May 2, 1974, Emerg; May 5, 1981, Reg; November 4, 2016, Susp | ......*do | Do.
Independence, City of, Hennepin County | 270167 | January 28, 1975, Emerg; January 6, 1983, Reg; November 4, 2016, Susp | ......*do | Do.
Long Lake, City of, Hennepin County | 270168 | May 2, 1975, Emerg; February 20, 1979, Reg; November 4, 2016, Susp | ......*do | Do.
Maple Grove, City of, Hennepin County | 270169 | July 1, 1974, Emerg; April 17, 1978, Reg; November 4, 2016, Susp | ......*do | Do.
Maple Plain, City of, Hennepin County | 270170 | October 24, 1975, Emerg; June 22, 1984, Reg; November 4, 2016, Susp | ......*do | Do.
Medicine Lake, City of, Hennepin County | 270690 | December 21, 1978, Emerg; April 15, 1982, Reg; November 4, 2016, Susp | ......*do | Do.
Medina, City of, Hennepin County | 270171 | July 18, 1975, Emerg; September 3, 1980, Reg; November 4, 2016, Susp | ......*do | Do.
Minneapolis, City of, Hennepin County | 270172 | March 23, 1973, Emerg; February 18, 1981, Reg; November 4, 2016, Susp | ......*do | Do.
Minnetonka, City of, Hennepin County | 270173 | April 9, 1975, Emerg; May 19, 1981, Reg; November 4, 2016, Susp | ......*do | Do.
Mound, City of, Hennepin County | 270176 | April 16, 1974, Emerg; September 29, 1978, Reg; November 4, 2016, Susp | ......*do | Do.
New Hope, City of, Hennepin County | 270177 | July 2, 1975, Emerg; January 2, 1981, Reg; November 4, 2016, Susp | ......*do | Do.
Plymouth, City of, Hennepin County | 270179 | April 15, 1974, Emerg; May 15, 1978, Reg; November 4, 2016, Susp | ......*do | Do.
Richfield, City of, Hennepin County | 270180 | April 22, 1975, Emerg; August 24, 1981, Reg; November 4, 2016, Susp | ......*do | Do.
Robbinsdale, City of, Hennepin County | 270181 | May 9, 1974, Emerg; August 1, 1977, Reg; November 4, 2016, Susp | ......*do | Do.
Rockford, City of, Hennepin and Wright Counties | 270182 | February 5, 1975, Emerg; November 1, 1979, Reg; November 4, 2016, Susp | ......*do | Do.
Rogers, City of, Hennepin County | 270775 | N/A, Emerg; July 12, 2012, Reg; November 4, 2016, Susp | ......*do | Do.
Saint Bonifacius, City of, Hennepin County | 270183 | April 22, 1976, Emerg; December 26, 1978, Reg; November 4, 2016, Susp | ......*do | Do.
Saint Louis Park, City of, Hennepin County | 270184 | December 22, 1972, Emerg; June 1, 1977, Reg; November 4, 2016, Susp | ......*do | Do.
Shorewood, City of, Hennepin County | 270185 | April 8, 1975, Emerg; December 4, 1979, Reg; November 4, 2016, Susp | ......*do | Do.
Spring Park, City of, Hennepin County | 270186 | July 16, 1975, Emerg; May 1, 1979, Reg; November 4, 2016, Susp | ......*do | Do.
Tonka Bay, City of, Hennepin County | 270187 | January 17, 1975, Emerg; May 1, 1979, Reg; November 4, 2016, Susp | ......*do | Do.
Wayzata, City of, Hennepin County | 270188 | November 25, 1974, Emerg; November 1, 1979, Reg; November 4, 2016, Susp | ......*do | Do.
Woodland, City of, Hennepin County | 270189 | June 11, 1975, Emerg; August 1, 1979, Reg; November 4, 2016, Susp | ......*do | Do.
Region VI
New Mexico:
Albuquerque, City of, Bernalillo County | 350002 | September 9, 1974, Emerg; October 14, 1983, Reg; November 4, 2016, Susp | ......*do | Do.
Bernalillo County Unincorporated Areas | 350001 | August 26, 1974, Emerg; September 15, 1983, Reg; November 4, 2016, Susp | ......*do | Do.
Texas:
Gregory, City of, San Patricio County | 480555 | May 16, 1975, Emerg; April 15, 1981, Reg; November 4, 2016, Susp | ......*do | Do.
Mathis, City of, San Patricio County | 480557 | June 11, 1975, Emerg; October 23, 1979, Reg; November 4, 2016, Susp | ......*do | Do.
San Patricio, City of, San Patricio County | 481556 | March 15, 2012, Emerg; April 1, 2012, Reg; November 4, 2016, Susp | ......*do | Do.
Taft, City of, San Patricio County | 481506 | July 11, 1995, Emerg; N/A, Reg; November 4, 2016, Susp | ......*do | Do.
Region VII
Iowa:
Muscatine, City of, Muscatine County | 190213 | January 15, 1974, Emerg; January 5, 1978, Reg; November 4, 2016, Susp | ......*do | Do.
Region IX
California:
Humboldt County Unincorporated Areas | 060060 | September 11, 1974, Emerg; July 19, 1982, Reg; November 4, 2016, Susp | ......*do | Do.
Region X
Oregon:
Beaverton, City of, Washington County | 410240 | October 30, 1974, Emerg; September 28, 1984, Reg; November 4, 2016, Susp | ......*do | Do.
Cornelius, City of, Washington County | 410261 | April 19, 1978, Emerg; January 6, 1982, Reg; November 4, 2016, Susp | ......*do | Do.
Durham, City of, Washington County | 410263 | November 7, 1979, Emerg; January 6, 1982, Reg; November 4, 2016, Susp | ......*do | Do.
Forest Grove, City of, Washington County | 410241 | June 4, 1975, Emerg; March 15, 1982, Reg; November 4, 2016, Susp | ......*do | Do.
Gaston, City of, Washington County | 410242 | November 24, 1981, Emerg; July 5, 1982, Reg; November 4, 2016, Susp | ......*do | Do.
Hillsboro, City of, Washington County | 410243 | January 20, 1975, Emerg; May 17, 1982, Reg; November 4, 2016, Susp | ......*do | Do.
King City, City of, Washington County | 410269 | November 14, 1974, Emerg; February 11, 1976, Reg; November 4, 2016, Susp | ......*do | Do.
North Plains, City of, Washington County | 410270 | March 25, 1977, Emerg; April 1, 1982, Reg; November 4, 2016, Susp | ......*do | Do.
Sherwood, City of, Washington County | 410273 | February 4, 1981, Emerg; January 6, 1982, Reg; November 4, 2016, Susp | ......*do | Do.
Tualatin, City of, Clackamas and Washington Counties | 410277 | July 3, 1974, Emerg; February 17, 1982, Reg; November 4, 2016, Susp | ......*do | Do.
Washington County Unincorporated Areas | 410238 | April 10, 1973, Emerg; September 30, 1982, Reg; November 4, 2016, Susp | ......*do | Do.
*do = Ditto.
Code for reading third column: Emerg.—Emergency; Reg.—Regular; Susp.—Suspension. Dated: October 31, 2016.

Eric Letvin,
Deputy Assistant Administrator for Mitigation, Federal Insurance and Mitigation Administration, Department of Homeland Security, Federal Emergency Management Agency.

[FR Doc. 2016-26679 Filed 11-3-16; 8:45 am]

BILLING CODE 9110-12-P